DEPARTMENT OF HEALTH AND HUMAN SERVICES

Centers for Medicare & Medicaid Services

42 CFR Part 412

[CMS-1177-F2]

RIN 0938-AK69

Medicare Program; Prospective Payment System for Long-Term Care Hospitals: Implementation and FY 2003 Rates; Correcting Amendment

AGENCY: Centers for Medicare & Medicaid Services (CMS), HHS.

ACTION: Final rule; correcting amendment.

SUMMARY: In the August 30, 2002 issue of the Federal Register (67 FR 55954), we published a final rule for the Prospective Payment System for Long Term Care Hospitals. The effective date was October 1, 2002. This correcting amendment corrects a limited number of technical and typographical errors identified in the August 30, 2002 final rule.

EFFECTIVE DATE: This correcting amendment is effective March 7, 2003.

FOR FURTHER INFORMATION CONTACT: Tzvi Hefter, (410) 786-4487.

SUPPLEMENTARY INFORMATION:

Need for Corrections

1. We redesignated § 412.23(e)(2) as § 412.23(e)(2)(ii) in the August 30, 2002 final rule, but failed to make a conforming change to existing § 412.22(h)(3)(ii) of the Code of Federal Regulations (CFR) which contains a cite to § 412.23(e)(2) instead of § 412.23(e)(2)(ii). This incorrect cite, if left uncorrected, would change our policy concerning satellite hospitals. In order to avoid this result, we are revising § 412.22(h)(3)(ii), to reference § 412.23(e)(2)(ii).

2. When we added § 412.541(d)(1), we inadvertently omitted information on outlier payments. The regulation on interim payments for hospitals not receiving periodic interim payments under the long-term care hospital prospective payment system (LTCH PPS) was designed to conform with the interim payment regulation at § 412.116(d) under the inpatient prospective payment system (IPPS). As it now reads, the paragraph misrepresents CMS outlier policy for the LTCH PPS by prohibiting LTCHs from including outliers on interim bills. As revised, instead of prohibiting appropriate outlier payments for Medicare patients with unusually long lengths of stay, this regulation will now conform to the regulation at § 412.116(d) and allow appropriate outlier payments. Section 412.541(d)(1) is revised by deleting the last sentence and replacing it with the following: “Payment for the interim bill is determined as if the bill were a final discharge bill and includes any outlier payment determined as of the last day for which services have been billed.”

3. In the August 30, 2002 final rule, we incorrectly stated two wage index amounts for MSA 3810 in Table 1 on page 56065 of the rule. On page 56065 in the third column (Full wage index) of Table 1, the figure 0.8513 is corrected to read 0.9794. On page 56065 in the fourth column (⅕ wage index) of Table 1, the figure 0.9703 is corrected to read 0.9959. We established in the August 30, 2002 final rule (67 FR 56018) for the LTCH PPS that the wage data used in calculations for the wage index would be computed based on the same data used by inpatient acute care hospital prospective payment system (IPPS). Wage index values published in the IPPS final rule on August 1, 2002 (67 FR 50155, 50199, and 50217) have been determined to be incorrect. On September 30, 2002, a program memorandum (Transmittal A-02-092) set forth the correct values and presently a correction notice is being prepared for publication for the IPPS wage index values. Since the IPPS data upon which the LTCH wage index for MSA 810 is based has been corrected, this data change would necessarily require a correction in the LTCH wage index for MSA 3810. Publishing this correction provides the accurate wage index adjustment factor under the LTCH PPS that will disclose to providers in this metropolitan statistical area (MSA) how this adjustment will affect their payments.

Correction of Errors in the Preamble of August 30, 2002 Final Rule

1. On page 56065 in the third column (Full wage index) of Table 1, the figure 0.8513 is corrected to read 0.9794.

2. On page 56065 in the fourth column (⅕ wage index) of Table 1, the figure 0.9703 is corrected to read 0.9959.

Summary of Technical Corrections to the Regulations Text of the August 30, 2002 Final Rule

1. In the August 30, 2002 final rule, we redesignated § 412.23(e)(2) as § 412.23(e)(2)(ii), but did not make a conforming change to § 412.22(h)(3)(ii). Presently, § 412.22(h)(3)(ii) cites § 412.23(e)(2) instead of § 412.23(e)(2)(ii). This error, which appears to change our policy concerning satellite hospitals, is corrected by revising § 412.22(h)(3)(ii), to reference § 412.23(e)(2)(ii).

2. In the August 30, 2002 final rule (67 FR 56055), we inadvertently omitted part of a sentence in § 412.541(d)(1). Presently, the sentence reads as “Payment for the interim bill is determined as if the bill were a final discharge bill” but does not address outlier payments. This regulation was designed to conform with the policy on billing for outliers on an interim bill of the IPPS, in § 412.116(d). The last sentence of § 412.541(d)(1) is revised to read as follows: “Payment for the interim bill is determined as if the bill were a final discharge bill and includes any outlier payment determined as of the last day for which services have been billed.”

Waiver of Proposed Rulemaking and Effective Date

We ordinarily publish a correcting amendment of proposed rulemaking in the Federal Register to provide a period for public comment before the provisions of a correcting amendment such as this can take effect. We can waive this procedure, however, if we find good cause that a notice and comment procedure is impracticable, unnecessary, or contrary to the public interest and incorporate a statement of finding and its reasons in the correcting amendment issued.

We find for good cause that it is unnecessary to undertake notice and public comment procedures because this correcting amendment does not make any substantive policy changes. This document makes technical corrections and conforming changes to the August 30, 2002 final rule (67 FR 55954). Therefore, for good cause, we waive notice and public comment procedures under 5 U.S.C. 553(b)(B). In addition, since these corrections make no substantive policy changes, LTCHs would not require additional time to prepare to implement these items. Therefore, for good cause, we find it unnecessary to delay the effective date for the changes in this correcting amendment. Consequently, we waive the 30-day delay in effective date for this correcting amendment.

List of Subjects in 42 CFR Part 412

Administrative practice and procedure, Health facilities, Medicare, Puerto Rico, Reporting and recordkeeping requirements.

42 CFR chapter IV part 412 is amended as set forth below:

PART 412—PROSPECTIVE PAYMENT SYSTEMS FOR INPATIENT HOSPITAL SERVICES

1. The authority citation for part 412 continues to read as follows:

Authority: Secs. 1102 and 1871 of the Social Security Act (42 U.S.C. 1302 and 1395hh).

2. Section 412.22 is amended by revising paragraph (h)(3)(ii) to read as follows:

§ 412.22 [Amended]

* * * * *

(h) Satellite facilities. * * *

(3) * * *

(ii) Any hospital excluded from the prospective payment systems under § 412.23(e)(2)(ii).

* * * * *

§ 412.541 [Amended]

3. Section 412.541 is amended by revising the the final sentence of paragraph (d)(1) to read as follows:

* * * * *

(d) * * *

(1) * * * Payment for the interim bill is determined as if the bill were a final discharge bill and includes any outlier payment determined as of the last day for which services have been billed.

* * * * *

(Catalog of Federal Domestic Assistance Program No. 93.773, Medicare—Hospital Insurance)
Dated: March 3, 2003.
Ann Agnew,
Executive Secretary to the Department.

[FR Doc. 03-5360 Filed 3-6-03; 8:45 am]

BILLING CODE 4120-01-P